DEPARTMENT OF COMMERCE

National Oceanic and Atmospheric Administration

RIN 0648-XE856

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) will meet in Seattle, WA.

DATES: The meeting will be held on Monday, September 19, 2016, from 9 a.m. to 5 p.m. and on Tuesday, September 20, 2016, from 8:30 a.m. to 1 p.m.

ADDRESSES: The meeting will be in the Observer Training Room, Building 4 at the Alaska Fisheries Science Center, 7700 Sand Point Way NE., Seattle, WA 98115. Please call (907) 271-2896.

Council address: North Pacific Fishery Management Council, 605 W. 4th Ave., Suite 306, Anchorage, AK 99501-2252; telephone: (907) 271-2809.

FOR FURTHER INFORMATION CONTACT: Diana Evans, Council staff; telephone: (907)-271-2809.

SUPPLEMENTARY INFORMATION:

Agenda

Monday, September 19 and Tuesday, September 20, 2016

The agenda will include a review of the Draft 2017 Observer Annual Deployment Plan, the lead level 2 discussion paper, the EM (Electronic Monitoring) analysis and 2017 EM Plan, other analytic project priorities, and scheduling and other issues. The Agenda is subject to change, and the latest version will be posted at http://www.npfmc.org/observer-program/

Special Accommodations

These meetings are physically accessible to people with disabilities. Requests for sign language interpretation or other auxiliary aids should be directed to Shannon Gleason at (907) 271-2809 at least 7 working days prior to the meeting date.

Dated: August 30, 2016.
Tracey L. Thompson,
Acting Deputy Director, Office of Sustainable Fisheries, National Marine Fisheries Service.

[FR Doc. 2016-21189 Filed 9-1-16; 8:45 am]

BILLING CODE 3510-22-P